DEPARTMENT OF THE INTERIOR

Bureau of Land Management

[ID-094-2810-HT;GPO DBG030001]

Notice of Shooting Closure Near Black Canyon Exit 13, Payette County, ID

SUMMARY: The following described public lands, as provided by title 43 CFR 8364, located in Payette County, Idaho, are closed to the discharge of all firearms, subject to the exemption below. The following public lands south of the Interstate Highway I-84 are involved with this closure order:

T. 6 N., R. 4 W., Boise Meridian, Payette County, Idaho

Section 10: SE¼,

Section 11: SW¼,

Section 14: NW¼,

Section 15: NE¼,

Containing 533.20 acres.

DATES: This order shall become effective immediately upon publication in the Federal Register and shall be in effect continuously for the next 10 years. At that time, this closure order shall be reviewed and a determination shall be made whether to reinstate, amend, modify or change the order by similar notification. This closure order may be rescinded at anytime if in the judgment of the authorized officer it is not effective or not needed.

ADDRESSES: Copies of maps that outline the closed area are available at the Bureau of Land Management, Lower Snake River District, 3948 Development Avenue, Boise, ID 83705.

FOR FURTHER INFORMATION CONTACT: The Fire Management Officer at (208) 384-3410.

SUPPLEMENTARY INFORMATION: The subject lands are being closed to protect Bureau of Land Management employees stationed at Wild West Guard Station and to safeguard personal and government owned property which amounts to considerable investment of public funds. Public safety is dependent on these facilities being operational at all times. Malicious vandalism by random and deliberate shooting has made this government facility extremely hazardous in recent years.

Exempt from this order are law enforcement officers of Federal, State and county governments while on official business of that agency. Any person who fails to comply with this closure order shall be subject to prosecution under penalty of law as provided by title 43 § 8360.0-7 and State or county statues, as applicable. Noncompliance is considered a misdemeanor, punishable by a fine not to exceed $1,000 and/or imprisonment not to exceed 12 months.

Dated: January 28, 2003.
Daryl L. Albiston,
Four Rivers Field Manager.

[FR Doc. 03-9370 Filed 4-16-03; 8:45 am]

BILLING CODE 4310-GG-P